DEPARTMENT OF THE INTERIOR

Bureau of Land Management

[PO #4820000251; NM-052394; NM-052395]

Public Land Order No. 7955; Partial Revocation of Withdrawals Created by Secretary Orders Dated December 10 and 22, 1928, for the Avalon Reservoir Carlsbad Project; New Mexico

AGENCY: Bureau of Land Management, Interior.

ACTION: Public land order.

SUMMARY: This Public Land Order (Order) partially revokes two withdrawals created by Secretary's orders dated December 10 and 22, 1928, issued pursuant to the Reclamation Act of June 17, 1902, section 3, to support the Bureau of Reclamation's (BOR) Avalon Reservoir Carlsbad Project. The BOR has determined that 335.25 acres of withdrawn lands are no longer needed for reclamation purposes and has requested that the withdrawals be partially revoked. This Order opens the lands to appropriation under the public land laws, subject to valid existing rights.

DATES: This Order takes effect on January 7, 2025.

FOR FURTHER INFORMATION CONTACT: Tessa Telles, BLM, Carlsbad Field Office, at (575) 234-5980 or by email ttelles@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The BOR has requested a partial withdrawal revocation of 335.25 acres of land originally withdrawn in support of the Avalon Reservoir Carlsbad Project created by two Secretary's orders dated December 10 and 22, 1928, issued pursuant to the Reclamation Act of June 17, 1902, section 3. The BOR has determined that the lands are no longer needed for reclamation purposes. The revocation of the withdrawal will open the lands to appropriation and allow the lands to be conveyed out of Federal ownership in a proposed land sale. Any lands not conveyed will be restored to the administration of the Bureau of Land Management.

Order

By virtue of the authority vested in the Secretary of the Interior by section 204 of the Federal Land Policy and Management Act of 1976, 43 U.S.C. 1714, it is ordered as follows:

1. The withdrawals created by Secretary Orders dated December 10 and 22, 1928, which withdrew public lands for use by the Bureau of Reclamation for the Avalon Reservoir Carlsbad Project, are hereby partially revoked as to the following described lands:

New Mexico Principal Meridian

T. 21 S., R. 26 E.,

Sec. 14, lot 4;

Sec. 23, lots 1, 4, 5, 7, 8, 9, 12, and 13.

The area described contains 335.25 acres.

2. At 8 a.m. Mountain Time (MT) on January 7, 2025, the lands described above will open to the operation of the public land laws, subject to valid existing rights, the provisions of existing withdrawals, other segregations of record, and the requirements of applicable law. All valid applications received at or prior to 8 a.m. MT on January 7, 2025, shall be considered as simultaneously filed at that time. Those received thereafter shall be considered in the order of filing. Applications to appropriate any of the lands referenced in this Order received prior to the date and time stated above shall be rejected. The lands will remain closed to location and entry under the United States mining laws until such time as the lands are conveyed out of Federal ownership or an opening order is issued pursuant to 43 CFR 2091.6.

(Authority: 43 U.S.C. 1714)

Robert T. Anderson,
Solicitor.

[FR Doc. 2025-00003 Filed 1-6-25; 8:45 am]

BILLING CODE 4331-23-P